DEPARTMENT OF ENERGY

Federal Energy Regulatory Commission

[Docket No.RP04-91-000]

Questar Pipeline Corporation; Notice of Technical Conference

July 9, 2004.

Take notice that a technical conference will be held on Thursday, July 29, 2004, from 10 a.m. to 4 p.m. (e.s.t.) at the Federal Energy Regulatory Commission, 888 First Street, NE., Washington, DC 20426. Arrangements will be made for parties to listen to the technical conference by telephone, with a telephone number to be provided later.

The purpose of the conference is to address Questar Pipeline Company's compliance filing made pursuant to the Commission's Order in RP04-91-000. Parties should be prepared to discuss issues arising from Questar's compliance filing regarding its fuel gas adjustment and lost and unaccounted for gas adjustment, and the Kastler dew point plant.

For more information regarding this conference, please contact Jerilyn Stanley, Office of General Counsel—Market, Tariffs and Rate at (202) 5028370 or jerilyn.stanley@ferc.gov.

Magalie R. Salas,
Secretary.

[FR Doc. E4-1570 Filed 7-14-04; 8:45 am]

BILLING CODE 6717-01-P